DEPARTMENT OF COMMERCE

National Oceanic and Atmospheric Administration

RIN 0648-XF029

Taking and Importing of Marine Mammals

AGENCY: National Marine Fisheries Service (NMFS), National Oceanic and Atmospheric Administration (NOAA), Commerce.

ACTION: Notice; affirmative finding annual renewals for Ecuador, El Salvador, Guatemala, Mexico, and Spain.

SUMMARY: The NMFS Assistant Administrator (Assistant Administrator) has issued affirmative finding annual renewals for the Governments of Ecuador, El Salvador, Guatemala, Mexico, and Spain (Hereafter known as “The Nations”) under the Marine Mammal Protection Act (MMPA). These affirmative finding annual renewals will allow yellowfin tuna and yellowfin tuna products harvested in the eastern tropical Pacific Ocean (ETP) in compliance with the Agreement on the International Dolphin Conservation Program (AIDCP) by The Nations' flagged purse seine vessels or purse seine vessels operating under The Nations' jurisdiction to be imported into the United States. The affirmative finding annual renewals were based on reviews of documentary evidence submitted by the Governments of The Nations and by information obtained from the Inter-American Tropical Tuna Commission (IATTC).

DATES: These affirmative finding annual renewals are effective for the one-year period of April 1, 2016, through March 31, 2017.

FOR FURTHER INFORMATION CONTACT: Justin Greenman, West Coast Region, National Marine Fisheries Service, 501 W. Ocean Blvd., Long Beach, CA 90802. Phone: 562-980-3264. Email: justin.greenman@noaa.gov.

SUPPLEMENTARY INFORMATION: The MMPA, 16 U.S.C. 1361 et seq., allows for importation into the United States of yellowfin tuna harvested by purse seine vessels in the ETP under certain conditions. If requested by the harvesting nation, the Assistant Administrator will determine whether to make an affirmative finding based upon documentary evidence provided by the government of the harvesting nation, the IATTC, or the Department of State.

The affirmative finding process requires that the harvesting nation is meeting its obligations under the AIDCP and obligations of membership in the IATTC. Every five years, the government of the harvesting nation must request a new affirmative finding and submit the required documentary evidence directly to the Assistant Administrator. On an annual basis, NMFS reviews the affirmative finding and determines whether the harvesting nation continues to meet the requirements. A nation may provide information related to compliance with AIDCP and IATTC measures directly to NMFS on an annual basis or may authorize the IATTC to release the information to NMFS to annually renew an affirmative finding determination without an application from the harvesting nation.

An affirmative finding will be terminated, in consultation with the Secretary of State, if the Assistant Administrator determines that the requirements of 50 CFR 216.24(f) are no longer being met or that a nation is consistently failing to take enforcement actions on violations, thereby diminishing the effectiveness of the AIDCP.

As a part of the affirmative finding process set forth in 50 CFR 216.24(f)(8), the Assistant Administrator considered documentary evidence submitted by the governments of The Nations and obtained from the IATTC, and has determined that The Nations have met the MMPA's requirements to receive affirmative finding annual renewals.

After consultation with the Department of State, the Assistant Administrator issued affirmative finding annual renewals to The Nations, allowing the continued importation into the United States of yellowfin tuna and products derived from yellowfin tuna harvested in the ETP by The Nations' flagged purse seine vessels or purse seine vessels operating under The Nations' jurisdiction for the one-year period of April 1, 2016, through March 31, 2017.

El Salvador's five-year affirmative finding will remain valid through March 31, 2018 and Ecuador, Guatemala, Mexico, and Spain's five-year affirmative findings will remain valid through March 31, 2020, subject to subsequent annual reviews by NMFS.

Dated: November 23, 2016.
Eileen Sobeck,
Assistant Administrator for Fisheries, National Marine Fisheries Service.

[FR Doc. 2016-28731 Filed 11-28-16; 8:45 am]

BILLING CODE 3510-22-P